DEPARTMENT OF HEALTH AND HUMAN SERVICES

National Institutes of Health

Proposed Collection; Comment Request; NIH Leadership Development Programs Evaluation

SUMMARY: In compliance with the requirement of section 3506(c)(2)(A) of the Paperwork Reduction Act of 1995, for opportunity for public comment on proposed data collection projects, the Office of the Director (OD), National Institutes of Health (NIH) will publish periodic summaries of proposed projects to be submitted to the Office of Management and Budget (OMB) for review and approval.

PROPOSED COLLECTION: Title: NIH Leadership Development Programs Evaluation. Type of Information Collection Request: NEW. Need and Use of Information Collection: This evaluation will focus on Leadership Development Programs that are administered at NIH. These programs are integral components in the NIH Human Capital Strategy, submitted to the HHS/Office of the Secretary. NIH has committed to an evaluation of all leadership development programs as part of the Human Capital Strategy. The overarching purpose of evaluating the NIH Leadership Development Programs is to assess the effectiveness of existing programs as analyzed against the needs of the NIH community. The findings of this study will be used to: (1) Implement recommendations for program: Realignment, modification, retirement, and/or development; (2) assess the investments in the programs as they relate to the NIH Human Capital Strategy and NIH budget priorities; (3) improve communication of the programs and promote awareness throughout the NIH community; (4) identify opportunities for sharing best practices, reducing redundancies, and emphasize trans-NIH and/or IC program impacts; (5) conduct more effective succession planning to strategically optimize the leadership pipeline; and (6) integrate recommendations with the current NIH workforce planning initiative. The findings of this study will be used to ensure that programs meet the NIH Human Capital Strategy goals. Frequency of Response: On occasion. Affected Public: Individuals. Types of Respondents: Past program participants, program managers, officials who have selected both graduates and non-graduates from leadership development programs, and key administrative and scientific leaders across a diverse representation of the NIH's 27 Institutes/Centers. The annual reporting burden is as follows: Estimated Number of Respondents: 100; Estimated Number of Responses per Respondent: 1; and Average Burden Hours Per Response: 1. There are no Capital Costs to report. There are no Operating or Maintenance Costs to report.

Request for Comments: Written comments and/or suggestions from the public and affected agencies should address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Debbie Butcher, Acting Director, NIH Training Center, WSDD, OD, NIH, Suite 100, 6120 Executive Blvd., Rockville, MD 20852, or call non-toll-free number 301-435-6755 or E-mail your request, including your address to: butcherd@od.nih.gov.

Comments Due Date: Comments regarding this information collection are best assured of having their full effect if received within 60 days of the date of this publication.

Dated: June 28, 2006.
Debbie Butcher,
Acting Director, NIH Training Center, OD, National Institutes of Health.

[FR Doc. E6-10726 Filed 7-7-06; 8:45 am]

BILLING CODE 4140-01-P